FEDERAL COMMUNICATIONS COMMISSION

47 CFR Parts 0 and 64

[CG Docket No. 20-93; FCC 20-57; FRS 16748]

Protecting Consumers From One-Ring Scams

AGENCY: Federal Communications Commission.

ACTION: Proposed rule.

SUMMARY: In this document, the Federal Communications Commission (FCC or Commission) proposes rules to implement section 12 of the Pallone-Thune Telephone Robocall Abuse Criminal Enforcement and Deterrence Act (TRACED Act) to protect consumers from one-ring scams.

DATES: Comments are due on or before June 19, 2020 and reply comments are due on or before July 6, 2020.

ADDRESSES: You may submit comments, identified by CG Docket No. 20-93, by any of the following methods:

• Federal Communications Commission: https://www.fcc.gov/ecfs.filings. Follow the instructions for submitting comments.

• Paper Filers: Parties who choose to file by paper must file an original and one copy of each filing.

• Commercial overnight mail (other than U.S. Postal Service Express Mail and Priority Mail) must be sent to 9050 Junction Drive, Annapolis Junction, MD 20701.

• U.S. Postal Service first class, Express, and Priority mail must be addressed to 445 12th Street SW, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020), https://www.fcc.gov/document/fcc-closes-headquarters-open-window-and-changes-hand-delivery-policy.

People with Disabilities: Contact the FCC to request reasonable accommodations (accessible format documents, sign language interpreters, CART, etc.) by email: FCC504@fcc.gov or phone: 202-418-0530 or TTY: 202-418-0432.

FOR FURTHER INFORMATION CONTACT: Mika Savir of the Consumer Policy Division, Consumer and Governmental Affairs Bureau, at mika.savir@fcc.gov or (202) 418-0384.

SUPPLEMENTARY INFORMATION: This is a summary of the Commission's Notice of Proposed Rulemaking, FCC 20-57, CG Docket No. 20-93, adopted on April 24, 2020, and released on April 28, 2020. The full text of this document is available online at https://docs.fcc.gov/public/attachments/FCC-20-57A1.pdf. To request this document in accessible formats for people with disabilities (e.g., Braille, large print, electronic files, audio format) or to request reasonable accommodations (e.g., accessible format documents, sign language interpreters, CART), send an email to fcc504@fcc.gov or call the FCC's Consumer and Governmental Affairs Bureau at (202) 418-0530 (voice), (202) 418-0432 (TTY). This matter shall be treated as a “permit-but-disclose” proceeding in accordance with the Commission's ex parte rules. 47 CFR 1.1200 et seq. Persons making oral ex parte presentations are reminded that memoranda summarizing the presentations must contain summaries of the substance of the presentations and not merely a listing of the subjects discussed. See 47 CFR 1.1206(b). Other rules pertaining to oral and written ex parte presentations in permit-but-disclose proceedings are set forth in § 1.1206(b) of the Commission's rules, 47 CFR 1.1206(b).

Initial Paperwork Reduction Act of 1995 Analysis

The NPRM, FCC 20-57, seeks comment on proposed rule amendments that may result in modified information collection requirements. If the Commission adopts any modified information collection requirements, the Commission will publish another notice in the Federal Register inviting the public to comment on the requirements, as required by the Paperwork Reduction Act. Public Law 104-13; 44 U.S.C. 3501-3520. In addition, pursuant to the Small Business Paperwork Relief Act of 2002, the Commission seeks comment on how it might further reduce the information collection burden for small business concerns with fewer than 25 employees. Public Law 107-198; 44 U.S.C. 3506(c)(4).

Synopsis

1. In the NPRM, the Commission proposes to implement section 12 of the Pallone-Thune TRACED Act. Section 12 of the TRACED Act directs the Commission to consider taking additional steps to protect called parties from a type of illegal call known as the one-ring scam. In this scam, consumers in the United States receive a call from a foreign country and after one ring, the scammer hangs up, causing the consumer to call back and incur phone charges.

2. In the NPRM, the Commission seeks comment on how to implement section 12(b)(1) of the TRACED Act by working with federal, state, and foreign law enforcement and other government agencies. How can the Commission further enhance the coordination efforts with federal, Tribal, state, and local partners on one-ring scams more specifically? Which agencies should the Commission work with?

3. The Commission seeks comment on how to implement section 12(b)(2) of the TRACED Act to work with governments of foreign countries to address one-ring scams as the scams originate in other countries. Which foreign governments should the Commission work with? How can the Commission best work with these governments to protect consumers from one-ring scams? Might the Federal Trade Commission's (FTC's) work on robocall enforcement with India prove instructive?

4. Section 12(b)(3) of the TRACED Act requires the Commission to consider how, in consultation with the FTC, to better educate consumers about how to avoid one-ring scams. How can the Commission build upon current consumer education materials and efforts? Are there ways the Commission can enhance messaging to give consumers more effective information and advice? How can the Commission further collaborate with partners at the FTC?

5. Section 12(b)(4) of the TRACED Act requires the Commission to consider ways to incentivize voice service providers to stop calls that perpetrate one-ring scams from being received by called parties, including consideration of adding identified one-ring scam-type numbers to the Commission's existing list of permissible categories for carrier-initiated blocking. The Commission proposes to allow voice service providers to block all calls from phone numbers associated with one-ring scams (or purporting to be from such numbers). Is there a method, other than reasonable analytics, by which voice service providers can identify one-ring scam calls? How can the Commission encourage voice service providers to block one-ring scam calls?

6. Section 12(b)(5) of the TRACED Act requires the Commission to consider how it can work with entities that provide call blocking services to address one-ring scams. Might STIR/SHAKEN offer enhanced protection against one-ring scams? How should the Commission work with analytics companies and voice service providers to stop one-ring scam calls?

7. Section 12(b)(6) of the TRACED Act requires the Commission to consider how it can establish obligations on international gateway providers that are the first point of entry for these calls into the United States, including potential requirements that such providers “verify with the foreign originator the nature or purpose of calls before initiating service.” What technical processes do gateway providers have to identify traffic that is likely to be illegal? How might gateway providers go about determining “the nature and purpose” of calls? Should the Commission codify a rule that enables voice service providers to block traffic from an international gateway provider that fails to block calls from numbers known to be used in one-ring scams? Would labeling calls be a useful alternative to blocking?

Initial Regulatory Flexibility Analysis

8. The Commission has prepared this Initial Regulatory Flexibility Analysis (IRFA) of the possible significant economic impact on a substantial number of small entities by the policies and rules proposed in this NPRM. Written public comments are requested on this IRFA. Comments must be identified as responses to the IRFA and must be filed by the deadlines for comments on the NPRM. The Commission will send a copy of the NPRM, including the IRFA, to the Chief Counsel for Advocacy of the Small Business Administration.

9. Need for, and Objectives of, the Proposed Rules. The NPRM seeks comment on ways to implement section 12 of the TRACED Act, to prevent consumers from a type of scam called the one-ring scam.

10. Section 12 of the TRACED Act requires the Commission to initiate a proceeding to protect consumers from one-ring scams and to consider the following ways: Work with federal and state law enforcement agencies; work with the governments of foreign countries; in consultation with the FTC, better educate consumers about how to avoid one-ring scams; encourage voice service providers to stop one-ring scam calls, including adding identified one-ring scam-type numbers to the list of permissible categories for carrier-initiated blocking; work with entities that provide call-blocking services to address one-ring scams; and establish obligations on international gateway providers, including potential requirements that such providers verify with the foreign originator the nature or purpose of calls before initiating service.

11. The NPRM seeks comment on how to implement section 12 of the TRACED Act and proposes rules to permit voice service providers to block calls made from numbers associated with the one-ring scam.

12. Legal Basis. The proposed rules are authorized under the TRACED Act, 154(i), 201, 202, 227, 251(e), and 403 of the Communications Act of 1934, as amended, 47 U.S.C. 154(i), 201, 202, 227, 251(e), 403.

13. Description of Projected Reporting, Recordkeeping, and Other Compliance Requirements. The NPRM seeks comment on proposed rules to implement the TRACED Act. The NPRM does not propose reporting or recordkeeping requirements.

14. Steps Taken to Minimize Significant Economic Impact on Small Entities, and Significant Alternatives Considered. The proposed rules allow voice service providers, including small entities, to block calls from numbers associated with one-ring scams.

15. Federal Rules that May Duplicate, Overlap, or Conflict with the Proposed Rules. None.

List of Subjects in 47 CFR Part 64

Communications common carriers, Reporting and recordkeeping requirements, Telecommunications, Telephone.

Federal Communications Commission.
Marlene Dortch,
Secretary, Office of the Secretary.

Proposed Rules

For the reasons discussed in the preamble, the Federal Communications Commission proposes to amend 47 part 64 as follows:

PART 64—MISCELLANEOUS RULES RELATING TO COMMON CARRIERS

1. The authority citation for part 64 continues to read as follows:

Authority: 47 U.S.C. 154, 201, 202, 217, 218, 220, 222, 225, 226, 227, 227(b), 228, 251(a), 251(e), 254(k), 262, 403(b)(2)(B), (c), 616, 620,1401-1473, unless otherwise noted, Pub. L. 115-141, Div. P, sec. 503, 132 Stat. 348, 1091.

§ 64.1200 [Amended]

2. Amend § 64.1200 by revising paragraph (k)(2)(iv) to read as follows:

§ 64.1200 Delivery Restrictions

* * * * *

(k) * * *

(2) * * *

(iv) A telephone number that is highly likely to be associated with the “one-ring scam,” which is defined as “a scam in which a caller makes a call and allows the call to ring the called party for a short duration, in order to prompt the called party to return the call, thereby subjecting the called party to charges.”

* * * * *

[FR Doc. 2020-10347 Filed 5-19-20; 8:45 am]

BILLING CODE 6712-01-P